DEPARTMENT OF COMMERCE

National Oceanic and Atmospheric Administration

[I.D. 040802A]

Endangered and Threatened Species; Take of Anadromous Fish

AGENCY: National Marine Fisheries Service (NMFS), National Oceanic and Atmospheric Administration (NOAA), Commerce.

ACTION: Issuance of 39 research permits, six research permit modifications, eight research permit amendments, and withdrawal of two research permit applications.

SUMMARY: NMFS has issued 39 scientific research permits, six research permit modifications, eight research permit amendments and withdrew two research permit applications. NMFS withdrew the scientific research permit applications from the City of Kent Public Works in Kent, WA and the Northwest Fisheries Science Center (NWFSC) in Seattle, WA.

ADDRESSES: The applications and related documents are available for review in the following office, by appointment: Protected Resources Division, F/NWO3, 525 NE Oregon Street, Suite 500, Portland, OR 97232-2737 (phone: 503-230-5400, fax: 503-230-5435).

FOR FURTHER INFORMATION CONTACT: Steve Stone, Portland, OR (phone: 503-231-2317, fax: 503-230-5435, e-mail: steve.stone@noaa.gov).

SUPPLEMENTARY INFORMATION:

Authority

Scientific research and/or enhancement permits are issued under Section 10(a)(1)(A) of the Endangered Species Act of 1973 (ESA) (16 U.S.C. 1531 et seq.). Issuance of permits and permit modifications, as required by the ESA, is based on a finding that such permits/modifications: (1) are applied for in good faith; (2) would not operate to the disadvantage of the listed species that are the subject of the permits; and (3) are consistent with the purposes and policies set forth in section 2 of the ESA. Authority to take listed species is subject to conditions set forth in the permits. Permits, modifications, and amendments are issued in accordance with and are subject to the ESA and NMFS regulations governing listed fish and wildlife permits (50 CFR Parts 222-226).

Species Covered in This Notice

The following ESA-listed species and evolutionarily significant units (ESUs) are covered in this notice:

Chinook salmon (Oncorhynchus tshawytscha): Threatened Puget Sound (PS); threatened Lower Columbia River (LCR); threatened Snake River (SnR) spring/summer and fall; endangered Upper Columbia River (UCR); threatened Upper Willamette River (UWR).

Sockeye salmon (O. nerka): Endangered SnR.

Chum salmon (O. keta): Threatened Hood Canal summer-run (HCS); threatened Columbia River (CR).

Steelhead (O. mykiss): Threatened LCR; threatened Middle Columbia River (MCR); threatened SnR; threatened UWR; endangered UCR.

Permits Issued

Permit 1175

Notice was published on August 27, 1998 (63 FR 45799), and June 7, 2001 (66 FR 30704), that the U.S. Forest Service (USFS) in Vancouver, WA applied for a scientific research permit. NMFS issued permit 1175 on February 27, 2002, to the USFS authorizing annual takes of threatened LCR chinook salmon, threatened PS chinook salmon, threatened LCR steelhead, and threatened CR chum salmon. Permit 1175 expires on December 31, 2006.

Permit 1229

Notice was published on January 14, 2000 (65 FR 2381), that the Northern Wasco County Peoples' Utility District in The Dalles, OR (NWCPUD) applied for a scientific research permit. NMFS issued permit 1229 on March 8, 2002, to the NWCPUD authorizing annual direct takes of threatened SnR fall chinook salmon; threatened SnR spring/summer chinook salmon; endangered UCR spring chinook salmon; endangered SnR sockeye salmon; threatened MCR steelhead; threatened SnR steelhead; and endangered UCR steelhead. Permit 1229 expires on December 31, 2006.

Permit 1246

Notice was published on March 22, 2000 (65 FR 15312), that Douglas County Public Utility District No. 1 (PUD) in East Wenatchee, WA applied for a scientific research permit. NMFS issued permit 1246 on February 21, 2002, to the PUD authorizing annual direct takes of endangered UCR spring chinook salmon and endangered UCR steelhead. Permit 1246 expires on December 31, 2006.

Permit 1252

Notice was published on May 16, 2000 (65 FR 31147), that the Washington Department of Transportation (WDOT) in Olympia, WA applied for a scientific research permit. NMFS issued permit 1252 on February 23, 2002, to WDOT authorizing annual direct takes of endangered UCR chinook salmon, threatened PS chinook salmon, threatened LCR chinook salmon, threatened HCS chum salmon, threatened CR chum salmon, endangered UCR steelhead, and threatened LCR steelhead. Permit 1252 expires on December 31, 2006.

Permit 1290

Notice was published on February 21, 2001 (66 FR 11002), that the NWFSC applied for a scientific research permit. NMFS issued permit 1290 on March 08, 2002, to the NWFSC authorizing annual direct takes of endangered UCR spring chinook salmon, threatened UWR chinook salmon, threatened LCR chinook salmon, threatened SnR spring/summer chinook salmon, threatened SnR fall chinook salmon, endangered UCR steelhead, threatened MCR steelhead, threatened UWR steelhead, threatened LCR steelhead, threatened SnR steelhead, and threatened CR chum salmon. Permit 1290 expires on December 31, 2006.

Permit 1293

Notice was published on March 3, 2001 (66 FR 1305), that Northern Resource Consulting (NRC) in Longview, WA applied for a scientific research permit. NMFS issued permit 1293 on March 11, 2002, to the NRC authorizing annual direct takes of endangered, UCR spring chinook salmon, endangered UCR steelhead, threatened MCR steelhead, threatened, LCR chinook salmon, threatened LCR steelhead, and threatened CR chum salmon. Permit 1293 expires on December 31, 2006.

Permits 1309, 1310, 1311, 1312, 1313, 1314, 1315

Notice was published on May 16, 2001 (66 FR 27076), that the following entities applied for scientific research permits: King County Department of Natural Resources in Seattle, WA (1309); King County Department of Transportation in Seattle, WA (1310); NWFSC (1311); Olympic Resource Management in Aberdeen, WA (1312); Pentec Environmental in Edmonds, WA (1313); Port of Seattle (1314); and the U.S. Army Corps of Engineers in Seattle, WA (1315). NMFS issued these permits on February 22-23, 2002, authorizing annual direct takes of threatened PS chinook salmon (all permits) and HCS chum salmon (1312). All seven permits expire on December 31, 2006.

Permits 1317, 1318, 1319, 1320, 1321

Notice was published on June 7, 2001 (66 FR 30704), that the following entities applied for scientific research permits: U.S. Geological Survey (USGS) in Cook, WA (1317); Oregon Department of Fish and Wildlife (ODFW) in Portland, OR (1318); Georgia Pacific West Inc., in Bellingham, WA (1319); the City of Marysville, WA (1320); and Mr. Kenneth Witty of S.P. Cramer and Associates in Enterprise, OR (1321). NMFS issued permits on February 14 (1321) February 21 (1317), February 23 (1319 and 1320), and March 8 (1318), 2002. These permits authorize annual direct takes of threatened UWR chinook salmon (1318), threatened LCR chinook salmon (1318), threatened UWR steelhead (1318), threatened LCR steelhead (1318), threatened MCR steelhead (1317, 1318, 1321), and threatened PS chinook salmon (1319, 1320). All five permits expire on December 31, 2006.

Permits 1256, 1326, 1327, 1328, 1330, 1331, 1332, 1333, 1334, 1336, 1337, 1338

Notice was published on July 20, 2001 (66 FR 37947), that the following entities applied for scientific research permits: Bureau of Land Management in Eugene, OR (1256); Cascade General, Inc. in Portland, OR (1326); Western Washington University in Bellingham, WA (1327); Lower Willamette Group in Portland, OR (1328); Weyerhaeuser in Federal Way, WA (1330); King County Department of Transportation in Renton, WA (1331); City of Bellingham, WA (1332); Oregon State University (OSU) in Corvallis, OR (1333, 1337); Oregon Metallurgical Corporation in Portland, OR (1334); Port Blakely Farms in Tenino, WA (1336); and United States Fish and Wildlife Service in Vancouver, WA (1338). NMFS issued permits on February 21 (1333, 1334, 1336, 1337, 1338), February 22 (1256, 1326, 1327, 1328, 1330), February 23 (1331), and February 27 (1332), 2002. These permits authorize annual direct takes of threatened UWR chinook salmon (1256, 1326, 1327, 1328, 1333, 1334, 1336, 1337), threatened LCR chinook salmon (1326, 1328, 1333, 1336, 1338), threatened PS chinook salmon (1331, 1332), threatened CR chum salmon (1338), threatened UWR steelhead (1326, 1327, 1328, 1333, 1334, 1336, 1337), and threatened LCR steelhead (1326, 1328, 1330, 1333, 1336, 1338). All 13 permits expire on December 31, 2006.

Permit 1335

Notice was published on July 20, 2001 (66 FR 37947), and November 9, 2001 (66 FR 56658), that the USFS in Corvallis, OR applied for a scientific research permit. NMFS issued permit 1335 on February 23, 2002, to the USFS authorizing annual direct takes of threatened PS chinook salmon, threatened CR chum salmon, threatened HCS chum salmon, threatened MCR steelhead, and threatened LCR steelhead. Permit 1335 expires on December 31, 2006.

Permits 1339, 1340, 1341, 1342, 1343

Notice was published on July 20, 2001 (66 FR 37949), that the following entities applied for scientific research permits: the Columbia River Inter-Tribal Fish Commission (CRITFC) in Portland, OR (1339); OSU (1340), the Shoshone-Bannock Tribes in Fort Hall, ID (1341); the Washington State University in Pullman, WA (1342); and Thompson Creek Mining Company in Challis, ID (1343). NMFS issued permits on February 19 (1342), February 20 (1339), and February 21 (1340, 1341, 1343), 2002. These permits authorize annual direct takes of SnR sockeye salmon (1339, 1341, 1342, 1343), endangered UCR spring chinook salmon (1339, 1342, 1343), threatened SnR spring/summer chinook salmon (1339, 1340, 1341, 1342, 1343), threatened SnR fall chinook salmon (1339, 1342, 1343), threatened LCR chinook salmon (1339, 1342, 1343), endangered UCR steelhead (1339, 1342, 1343), threatened SnR steelhead (1339, 1340, 1342, 1343), threatened MCR steelhead (1339, 1340, 1342, 1343), and threatened LCR steelhead (1339, 1342, 1343). Permit 1342 expires on December 31, 2004; the remaining four permits expire on December 31, 2006.

Permits 1322, 1344, 1345

Notice was published on July 25, 2001 (66 FR 38640), that the following entities applied for scientific research permits: NWFSC (1322), the Hecla Mining Company in Challis, ID (1344); and the Washington Department of Fish and Wildlife in Olympia, WA (1345). NMFS issued permits on February 21 (1322, 1344) and February 23 (1345), 2002. These permits authorize annual direct takes of endangered SnR sockeye salmon (1344), endangered UCR spring chinook salmon (1344), threatened PS chinook salmon (1345), threatened SnR fall-run chinook salmon (1322, 1344), threatened SnR spring/summer chinook salmon (1322, 1344, 1345), threatened LCR chinook salmon (1322, 1344), threatened UWR chinook salmon (1322), threatened CR chum salmon (1322), endangered UCR steelhead (1344), threatened SnR steelhead (1322, 1344, 1345), threatened UWR steelhead (1322), and threatened MCR steelhead (1322, 1344, 1345), and threatened LCR steelhead (1322, 1344). All three permits expire on December 31, 2006.

Permit Modifications

Permit 1056

Notice was published on March 24, 1998 (63 FR 14069), and March 22, 2000 (65 FR 15312), that NWFSC applied for a modification to scientific research permit 1056. NMFS issued modification 3 to permit 1056 on February 21, 2002, to the NWFSC. Permit 1056 allows take of threatened SnR spring/summer chinook salmon, threatened SnR steelhead, and threatened MCR steelhead. Modification 3 is valid for the duration of the permit which has been extended to expire on December 31, 2002.

Permit 1116

Notice was published on April 7, 2000 (65 FR 18310), that the Douglas County PUD No. 1 applied for a modification to scientific research permit 1116. NMFS issued modification 3 to permit 1116 to Douglas County PUD No. 1 on February 21, 2002. Modification 3 allows take of endangered UCR chinook salmon and is valid for the duration of the permit, which expires on December 31, 2002.

Permit 1140

Notice was published on March 22, 2000 (65 FR 15312), and May 16, 2001 (66 FR 27076), that the NWFSC applied for a modification to scientific research permit 1140. The modification allows take of threatened PS chinook salmon, threatened LCR chinook salmon, threatened UWR chinook salmon, threatened CR chum salmon, threatened SnR steelhead, threatened LCR steelhead, and threatened MCR steelhead. NMFS issued modification 2 to permit 1140 on February 28, 2002; the permit expires on December 31, 2006.

Permit 1152

Notice was published on April 7, 2000 (65 FR 18310), that the ODFW in La Grande, OR applied for a modification to scientific research permit 1152. NMFS issued modification 1 to permit 1152 on February 20, 2002, to ODFW. In addition to an increase in annual takes of threatened artificially propagated SnR spring/summer chinook salmon, the permit modification authorizes ODFW annual take of SnR spring/summer chinook salmon adults and juveniles associated with potential salvage/rescue operations within the state of Oregon. Modification 1 is valid for the duration of the permit which expires on December 31, 2002.

Permit 1156

Notice was published on April 7, 2000 (65 FR 56658), April 19, 2000 (65 FR 20954), and November 9, 2001 (66 FR 56658), that the Environmental Protection Agency in Olympia, WA, and Dynamic Corporation applied for a modification to scientific research permit 1156. NMFS issued modification 2 to permit 1156 on February 28, 2002, authorizing annual direct takes of threatened LCR steelhead, threatened MCR steelhead, endangered UCR steelhead, threatened SnR steelhead, threatened UWR steelhead, threatened LCR chinook salmon, threatened UWR chinook salmon, endangered UCR spring chinook salmon, and threatened PS chinook salmon. Permit 1156, modification 2 expires on December 31, 2002.

Permit 1205

Notice was published on July 20, 2001 (66 FR 37949), that the Oregon Department of Environmental Quality in Portland, OR (ODEQ) applied for a modification to scientific research permit 1205. NMFS issued modification 1 to permit 1205 to ODEQ on February 21, 2002. Modification 1 allows take of threatened SnR spring/summer chinook salmon, threatened SnR fall chinook salmon, and threatened SnR steelhead and is valid for the duration of the permit, which expires on December 31, 2002.

Amendments Issued

Permit 1102

Notices were published on October 31, 1997 (62 FR 58942), February 25, 1998 (63 FR 9505), and April 26, 1999 (64 FR 20266) that the Washington Department of Fish and Wildlife (WDFW) in Vancouver, WA applied for annual takes of threatened SnR steelhead and threatened LCR steelhead under WDFW's scientific research permit 1102. On February 20, 2002, NMFS issued an amendment to permit 1102 that authorizes WDFW annual takes of these species. The amendment is valid for the duration of the permit which expires on January 31, 2003.

Permit 1124

Notice was published on November 18, 1998 (63 FR 64063), that the Idaho Department of Fish and Game (IDFG) applied for annual takes of endangered SnR sockeye salmon, threatened SnR spring/summer chinook salmon, and threatened SnR fall chinook salmon under IDFG's scientific research permit 1124. NMFS issued an amendment to the IDFG scientific research permit 1124 on February 21, 2002. The amendment authorizes IDFG take of these species associated with potential salvage/rescue operations within the state of Idaho. The permit amendment is valid for the duration of the permit which expires on December 31, 2002.

Permit 1126

NMFS issued an amendment to WDFW's scientific permit 1126 on February 21, 2002. The amendment authorizes WDFW annual takes of ESA-listed SnR spring/summer and fall chinook salmon adults and juveniles associated with potential salvage/rescue operations within the state of Washington. The permit amendment is valid for the duration of the permit which expires on December 31, 2002.

Permit 1127

Notice was published on February 19, 1998 (63 FR 8435), that the Shoshone-Bannock Tribes applied for annual takes of threatened SnR steelhead under the Tribes' scientific research permit 1127. NMFS issued an amendment to permit 1127 that authorizes the Shoshone-Bannock Tribes take of this species on February 21, 2002. The amendment is valid for the duration of the permit which expires on December 31, 2002.

Permit 1134

Notice was published on March 2, 1998 (63 FR 10198), that CRITFC applied for take of threatened SnR steelhead. Further notice was published on September 27, 1999 (64 FR 51959), that CRITFC applied for take of threatened LCR chinook salmon under CRITFC's scientific research permit 1134. On February 21, 2002, NMFS issued an amendment to permit 1134 that authorizes CRITFC annual takes of these species. The permit amendment also allows CRITFC to obtain gametes from pre-spawned and partially-spawned adult, threatened SnR spring/summer chinook salmon and steelhead males associated with CRITFC's cryopreservation of sperm research project. The acquisition of gametes from pre-spawned and partially-spawned adult, threatened SnR spring/summer chinook salmon and steelhead males is subject to annual approval by NMFS. The permit amendment is valid for the duration of the permit, which expires on December 31, 2002.

Permit 1135

On March 8, 2002, NMFS issued an amendment to USGS' scientific research permit 1135 authorizing direct takes of threatened LCD steelhead. Permit 1135 and the amendment expires on December 31, 2006.

Permit 1291

Notice was published on February 21, 2001 (66 FR 11002), and January 2, 2002 (67 FR 62), authorizing the USGS' Columbia River Research Laboratory annual direct takes of endangered UCR spring chinook salmon, threatened SnR spring/summer chinook salmon, threatened SnR fall chinook salmon, threatened LCR chinook salmon, endangered UCR steelhead, threatened LCR steelhead, threatened SnR steelhead, and endangered SnR sockeye salmon. Notice was published on January 2, 2002 (67 FR 62), that USGS applied for an annual take of threatened MCR steelhead under their scientific research permit. NMFS issued an amendment to 1291 on February 21, 2002, to the USGS. Permit 1291 expires on December 31, 2006.

Permit 1292

Notice was published on February 21, 2001 (66 FR 11002), that the USFS in La Grande, OR applied for an annual take of threatened MCR steelhead under their existing permit 1292. On February 21, 2002, NMFS issued an amendment of permit 1292 that authorizes USFS an annual take of this species. The amendment expires on December 31, 2006.

Withdrawn Permit Applications

Permit 1308

Notice was published on May 16, 2001 (66 FR 27076), that the City of Kent Public Works in Kent, WA applied for a scientific research permit. The application for the proposed permit 1308 was withdrawn by the applicant on February 14, 2002.

Permit 1329

Notice was published on July 20, 2000 (66 FR 37947), that the NWFSC applied for scientific research permit 1329. NMFS combined the analysis of the proposed permit 1329 with those in permit 1322 issued to the NWFSC on February 21, 2002, thereby withdrawing permit 1329.

Dated: May 10, 2002.
Margaret Lorenz,
Acting Chief, Endangered Species Division, Office of Protected Resources, National Marine Fisheries Service.

[FR Doc. 02-12275 Filed 5-15-02; 8:45 am]

BILLING CODE 3510-22-S